COMMISSION ON CIVIL RIGHTS

Agenda and Notice of Public Meeting of the New Mexico Advisory Committee

Notice is hereby given, pursuant to the provisions of the rules and regulations of the U.S. Commission on Civil Rights (Commission), and the Federal Advisory Committee Act (FACA), that a planning meeting of the New Mexico Advisory Committee to the Commission will be held at the Albuquerque Hispano Chamber of Commerce, Lockheed Martin Board Room, 1309 Fourth Street, SW., Albuquerque, NM 87102 and will convene at 2 p.m. on Tuesday, March 31, 2011. The purpose of the meeting is for the committee to discuss recent Commission and regional activities, discuss current civil rights issues in the state and plan future activities. The Committee will also be briefed by a representative yet to be determined.

Members of the public are entitled to submit written comments; the comments must be received in the regional office by April 31, 2011. The address is Rocky Mountain Regional Office, 999—18th Street, Suite 1380S, Denver, CO 80202. Comments may be e-mailed to ebohor@usccr.gov. Records generated by this meeting may be inspected and reproduced at the Rocky Mountain Regional Office, as they become available, both before and after the meeting. Persons interested in the work of this advisory committee are advised to go to the Commission's Web site, http://www.usccr.gov, or to contact the Rocky Mountain Regional Office at the above e-mail or street address.

Deaf or hearing-impaired persons who will attend the meeting and require the services of a sign language interpreter should contact the Regional Office at least ten (10) working days before the scheduled date of the meeting.

The meeting will be conducted pursuant to the provisions of the rules and regulations of the Commission and FACA.

Dated in Washington, DC, March 17, 2011.
Peter Minarik,
Acting Chief, Regional Programs Coordination Unit.

[FR Doc. 2011-6818 Filed 3-22-11; 8:45 am]

BILLING CODE 6335-01-P